DEPARTMENT OF AGRICULTURE

Submission for OMB Review; Comment Request

March 17, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Animal Plant and Health Inspection Service

Title: Foreign Animal Disease (Emerging Disease Investigations (FAD/ED) Database).

OMB Control Number: 0579-0071.

Summary of Collection: The Animal and Plant Health Inspection Service (APHIS), administers regulations intended to prevent foreign diseases of livestock or poultry from being introduced into the United States, conducts surveillance for the early detection of such foreign animal diseases, and conducts eradication programs if such foreign diseases are detected. Through the Foreign Animal Disease Surveillance Program, APHIS compiles essential epidemiological and diagnostic data that are used to define foreign animal diseases and their risk factors. APHIS' authority to investigate suspected occurrences of foreign animal diseases of livestock or poultry is delineated in Public Law 87-518 and 21 U.S.C. 111, 112, 113, 114, 114a, 120, and 134a. The regulations implementing these laws are found in part 53 of Title 9, Code of Federal Regulations.

Need and Use of the Information: APHIS collects information such as the purpose of the diagnostician's visit to the site, the name and address of the owner/manager, the type of operation being investigated, the number of and type of animals on the premises, the number of sick or dead animals, the results of post mortem examinations, and the name of the suspected disease. This information assists APHIS personnel in detecting and eradicating foreign animal disease incursions. Without the information, APHIS has no way to detect and monitor foreign animal disease outbreaks in the United States.

Description of Respondents: Farm; Business or other for profit.

Number of Respondents: 635.

Frequency of Responses: Reporting: On occasion.

Total Burden Hours: 2,540.

Ruth Brown,
Departmental Information Collection Clearance Officer.

[FR Doc. 05-5714 Filed 3-22-05; 8:45 am]

BILLING CODE 3410-34-M